DEPARTMENT OF AGRICULTURE

Agricultural Marketing Service

7 CFR Part 1216

[Doc. No. AMS-FV-08-0110; FV-08-704]

Peanut Promotion, Research, and Information Order; Section 610 Review

AGENCY: Agricultural Marketing Service, USDA.

ACTION: Confirmation of regulations.

SUMMARY: This document summarizes the results of an Agricultural Marketing Service (AMS) review of the Peanut Promotion, Research, and Information Order (Order), under the criteria contained in Section 610 of the Regulatory Flexibility Act. Based upon its review, AMS has determined that the Peanut Promotion, Research, and Information Order should be continued without change.

ADDRESSES: Interested persons may obtain a copy of the review on the Internet at: http://www.regulations.gov or requests for copies can be sent to the Docket Clerk, Research and Promotion Branch, Fruit and Vegetable Programs, Agricultural Marketing Service, U.S. Department of Agriculture, (Department) Room 0632-S, Stop 0244, 1400 Independence Avenue, SW., Washington, DC 20250-0244; facsimile: (202) 205-2800 or electronic mail: Jeanette. Palmer@ams.usda.gov.

FOR FURTHER INFORMATION CONTACT: Jeanette Palmer, Marketing Specialist, Research and Promotion Branch, Fruit and Vegetable Programs, Agricultural Marketing Service, U.S. Department of Agriculture, Stop 0244, 1400 Independence Avenue, SW., Room 0632-S, Washington, DC 20250-0244; telephone: (888) 720-9917; facsimile: (202) 205-2800; or electronic mail: Jeanette.Palmer@ams.usda.gov.

SUPPLEMENTARY INFORMATION: The Commodity Promotion, Research, and Information Act of 1996, (7 U.S.C. 7411-7425) authorized the Peanut Promotion, Research, and Information Order (7 CFR part 1216) which is administered by the National Peanut Board, with oversight by the Department. The Order's objective is to carry out an effective, continuous, and coordinated program of promotion, research, and information designed to strengthen peanuts' competitive position, and to maintain and expand the domestic market for peanuts.

The Order became effective on July 30, 1999. The program is funded by a mandatory assessment on all peanut producers at the rate of one percent of the total value of all farmers stock peanuts. The first handler collects from each peanut producer and pays assessments to the Board on all peanuts handled. For peanuts placed under a marketing assistance loan with the Department's Commodity Credit Corporation, the Commodity Credit Corporation will deduct and remit to the Board, from the proceeds of the loan paid to the peanut producer, one percent of the loan value of the peanuts as determined by the warehouse receipt accompanying such peanuts.

The Order is administered by the National Peanut Board, which is composed of 11 producer members and their alternates: one member and alternate from each primary peanut producing State (Alabama, Florida, Georgia, Mississippi, New Mexico, North Carolina, Oklahoma, South Carolina, Texas, and Virginia) and one at-large member and alternate collectively from the minor peanut producing States. The members and alternates are nominated by peanut producers or peanut producer groups. The producer and alternate members were appointed to the Board by the Secretary of Agriculture. All Board members serve a term of three years.

The AMS published in the Federal Register on March 24, 2006, (71 FR 14828) its plan to review certain regulations, including the Peanut Promotion, Research, and Information program, under criteria contained in section 610 of the Regulatory Flexibility Act (RFA; 5 U.S.C. 601-612). Because many AMS regulations impact small entities, AMS decided, as a matter of policy, to review certain regulations which, although they may not meet the threshold requirement under section 610 of the RFA, warrant review.

AMS published a notice of review and request for written comments in the Federal Register on April 3, 2009 (74 FR 15226). The comment period ended on June 2, 2009. No written comments were received.

Currently, there are approximately 10,840 producers and 33 handlers of peanuts who are subject to the provisions of the Order.

The review was undertaken to determine whether the Order should be continued without change, amended, or rescinded (consistent with the objectives of the Act) to minimize the impacts on small entities. AMS considered the following factors: (1) The continued need for the Order; (2) comments received from the public concerning the Order; (3) the complexity of the Order; (4) the extent to which the Order overlaps, duplicates, or conflicts with other Federal rules, and, to the extent feasible, with State and local regulations; and (5) the length of time since the Order has been evaluated or the degree to which technology, economic conditions, or other factors have changed in the area affected by the Order.

AMS provides Federal oversight of the Peanut program. The Order is not unduly complex, and AMS has not identified any Federal rules, or State and local regulations that duplicate, overlap, or conflict with the Order. Over the years, regulation changes have been made to address industry operation changes and to improve program administration. The goal of these evaluations is to assure that the Order and the regulations implemented under it fit the needs of the industry and are consistent with the Act.

Based upon its review, AMS has determined that the Order should be continued without change. AMS plans to continue working with the peanut industry in maintaining an effective program.

Dated: July 14, 2009.
David R. Shipman,
Associate Administrator, Agricultural Marketing Service.

[FR Doc. E9-17030 Filed 7-16-09; 8:45 am]

BILLING CODE 3410-02-P